DEPARTMENT OF ENERGY

Federal Energy Regulatory Commission

Combined Notice of Filings #1

Take notice that the Commission received the following electric corporate filings:

Docket Numbers: EC12-61-000.

Applicants: Bishop Hill Energy LLC II, Bishop Hill Energy III LLC, Bishop Hill Energy LLC, Bishop Hill Interconnection LLC, Bishop Hill II Holdings, LLC.

Description: Application for Authorization under Section 203 of the Federal Power Act and Request for Waivers and Expedited Action of Bishop Hill Energy LLC, et al.

Filed Date: 1/20/12.

Accession Number: 20120120-5107.

Comments Due: 5 p.m. ET 2/10/12.

Take notice that the Commission received the following exempt wholesale generator filings:

Docket Numbers: EG12-24-000.

Applicants: Bishop Hill Interconnection LLC.

Description: Notice of Self-Certification of Exempt Wholesale Generator Status of Bishop Hill Interconnection LLC.

Filed Date: 1/20/12.

Accession Number: 20120120-5072.

Comments Due: 5 p.m. ET 2/10/12.

Take notice that the Commission received the following electric rate filings:

Docket Numbers: ER97-324-024; ER97-3834-031.

Applicants: DTE Energy Trading, Inc., the Detroit Edison Company.

Description: Request for Continued Waiver of Affiliate Restrictions Related to the Detroit Edison Company's Summer 2012 Auctions for Capacity of the Detroit Edison Company, et al.

Filed Date: 1/20/12.

Accession Number: 20120120-5130.

Comments Due: 5 p.m. ET 2/10/12.

Docket Numbers: ER10-1537-002; ER10-1553-002; ER10-1538-002; ER10-1539-002; ER10-1540-002; ER10-1531-002; ER12-839-001.

Applicants: Entergy Nuclear Generation Company, Entergy Nuclear Power Marketing, LLC, Entergy Nuclear Vermont Yankee, LLC, Entergy Nuclear Fitzpatrick, LLC, Entergy Nuclear Indian Point 2, LLC, Entergy Nuclear Indian Point 3, LLC, Entergy Rhode Island State Energy, L.P.

Description: Notice of Non-Material Change in Status. Report/Form of Entergy Nuclear Fitzpatrick, LLC, et al.

Filed Date: 1/19/12.

Accession Number: 20120119-5266.

Comments Due: 5 p.m. ET 2/9/12.

Docket Numbers: ER11-4683-001; ER11-4684-001; ER11-2489-001; ER11-3620-002; ER11-2882-003; ER10-2432-002; ER10-2435-002; ER10-2440-002; ER10-2442-002; ER10-2444-002; ER10-2446-002; ER10-2449-002; ER10-2092-003; ER10-2119-003; ER10 2117-003; ER10-2118-003; ER10-3139-002.

Applicants: Boralex Fort Fairfield LP, Boralex Livermore Falls LP, York Generation Company LLC, Dartmouth Power Associates Limited Partnership, Camden Plant Holding, LLC, Pedricktown Cogeneration Company LP, Newark Bay Cogeneration Partnership, LP, Elizabethtown Energy, LLC, Lumberton Energy, LLC, Lyonsdale Biomass, LLC, Elmwood Park Power LLC, Black River Generation, LLC, Hatchet Ridge Wind, LLC, Boralex Ashland LP, ReEnergy Sterling CT Limited Partnership, Bayonne Plant Holding, LLC, Boralex Stratton Energy LP.

Description: Notification of Non-Material Change in Status.

Filed Date: 1/19/12.

Accession Number: 20120119-5268.

Comments Due: 5 p.m. ET 2/9/12.

Docket Numbers: ER12-761-001.

Applicants: MATL LLP.

Description: Supplemental Filing of Montana Alberta Tie Ltd. and MATL LLP to be effective 1/5/2012.

Filed Date: 1/20/12.

Accession Number: 20120120-5084.

Comments Due: 5 p.m. ET 2/10/12.

Docket Numbers: ER12-791-001.

Applicants: Palmco Power IL, LLC.

Description: Palmco Power IL FERC Electric Tariff to be effective 1/11/2012.

Filed Date: 1/19/12.

Accession Number: 20120119-5183.

Comments Due: 5 p.m. ET 2/9/12.

Docket Numbers: ER12-841-000.

Applicants: Southwest Power Pool, Inc.

Description: 2015R1 Westar Energy, Inc. NITSA NOA to be effective 12/1/2011.

Filed Date: 1/19/12.

Accession Number: 20120119-5178.

Comments Due: 5 p.m. ET 2/9/12.

Docket Numbers: ER12-842-000.

Applicants: New York State Electric & Gas Corporation.

Description: New York State Electric & Gas Corporation's Informational Filing Regarding Error in Posted NYSEG TSC Rate and Plan to Bill at Corrected Lower Rate.

Filed Date: 1/19/12.

Accession Number: 20120119-5267.

Comments Due: 5 p.m. ET 1/27/12.

Docket Numbers: ER12-843-000.

Applicants: PJM Interconnection, LLC.

Description: Original Service Agreement No. 3181; Queue No. X2-089 to be effective 12/22/2011.

Filed Date: 1/20/12.

Accession Number: 20120120-5044.

Comments Due: 5 p.m. ET 2/10/12.

Docket Numbers: ER12-844-000.

Applicants: PJM Interconnection, LLC.

Description: Original Service Agreement No. 3180; Queue No. X2-088 to be effective 12/22/2011.

Filed Date: 1/20/12.

Accession Number: 20120120-5046.

Comments Due: 5 p.m. ET 2/10/12.

Docket Numbers: ER12-845-000.

Applicants: Bishop Hill Interconnection LLC.

Description: Common Facilities Agreement and Requests for Waivers & Blanket Authorization to be effective 1/20/2012.

Filed Date: 1/20/12.

Accession Number: 20120120-5050.

Comments Due: 5 p.m. ET 2/10/12.

Docket Numbers: ER12-846-000.

Applicants: Bishop Hill Energy II LLC.

Description: Common Facilities Agreement and Requests for Waivers & Blanket Authorization to be effective 12/31/9998.

Filed Date: 1/20/12.

Accession Number: 20120120-5051.

Comments Due: 5 p.m. ET 2/10/12.

Docket Numbers: ER12-847-000.

Applicants: Bishop Hill Energy LLC.

Description: Amended and Restated Assignment, Co-Tenancy and Shared Facilities Agreement to be effective 12/31/9998.

Filed Date: 1/20/12.

Accession Number: 20120120-5052.

Comments Due: 5 p.m. ET 2/10/12.

Docket Numbers: ER12-848-000.

Applicants: Bishop Hill Energy II LLC

Description: Notice of Cancellation of Assignment, Co-Tenancy and Shared Facilities Agreement to be effective 12/31/9998.

Filed Date: 1/20/12.

Accession Number: 20120120-5053.

Comments Due: 5 p.m. ET 2/10/12.

Docket Numbers: ER12-849-000.

Applicants: Bishop Hill Energy III LLC.

Description: Notice of Cancellation of Assignment, Co-Tenancy and Shared Facilities Agreement to be effective 12/31/9998.

Filed Date: 1/20/12.

Accession Number: 20120120-5054.

Comments Due: 5 p.m. ET 2/10/12.

Docket Numbers: ER12-850-000.

Applicants: Bishop Hill Interconnection LLC.

Description: Amended and Restated Assignment, Co-Tenancy and Shared Facilities Agreement to be effective 12/31/9998.

Filed Date: 1/20/12.

Accession Number: 20120120-5055.

Comments Due: 5 p.m. ET 2/10/12.

Docket Numbers: ER12-851-000.

Applicants: The Detroit Edison Company.

Description: Electric Rate Schedule No. 43 revisions per MOU to be effective 1/21/2012.

Filed Date: 1/20/12.

Accession Number: 20120120-5077.

Comments Due: 5 p.m. ET 2/10/12.

Docket Numbers: ER12-852-000.

Applicants: Southern California Edison Company.

Description: Amendment to IFA and Svc Agmt with FPL Energy Green Power Wind, LLC to be effective 1/21/2012.

Filed Date: 1/20/12.

Accession Number: 20120120-5097.

Comments Due: 5 p.m. ET 2/10/12.

Docket Numbers: ER12-853-000.

Applicants: Gratiot County Wind LLC.

Description: Amendment to Co-Tenancy and Shared Facilities Agreement to be effective 1/21/2012.

Filed Date: 1/20/12.

Accession Number: 20120120-5132.

Comments Due: 5 p.m. ET 2/10/12.

Docket Numbers: ER12-854-000.

Applicants: Gratiot County Wind II LLC.

Description: Amendment to Co-Tenancy and Shared Facilities Agreement to be effective 1/21/2012.

Filed Date: 1/20/12.

Accession Number: 20120120-5137.

Comments Due: 5 p.m. ET 2/10/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 20, 2012.
Nathaniel J. Davis, Sr.,
Deputy Secretary.

[FR Doc. 2012-1898 Filed 1-27-12; 8:45 am]

BILLING CODE 6717-01-P